DEPARTMENT OF COMMERCE

International Trade Administration

[A-570-894]

Certain Tissue Paper Products from the People's Republic of China: Affirmative Final Determination of Circumvention of the Antidumping Duty Order

AGENCY: Import Administration, International Trade Administration, Department of Commerce.

SUMMARY: On March 6, 2013, the Department of Commerce (the Department) published the affirmative preliminary determination of circumvention of the antidumping duty (AD) order on certain tissue paper products (tissue paper) from the People's Republic of China (PRC).¹ We gave interested parties an opportunity to comment on the Preliminary Determination. Based on our analysis of these comments and the facts of record, as verified, our final determination remains unchanged from the Preliminary Determination.

¹ See Certain Tissue Paper Products From the People's Republic of China: Affirmative Preliminary Determination of Circumvention of the Antidumping Duty Order, 78 FR 14514 (March 6, 2013) (Preliminary Determination), and accompanying memorandum entitled “Preliminary Determination Decision Memorandum for the Anti-Circumvention Inquiry on Certain Tissue Paper Products from the People's Republic of China Involving AR Printing and Packaging India Pvt. Ltd.

DATE: Effective July 3, 2013.

FOR FURTHER INFORMATION CONTACT: Brian Smith or Gemal Brangman, AD/CVD Operations, Office 2, Import Administration, International Trade Administration, U.S. Department of Commerce, 14th Street and Constitution Avenue NW., Washington, DC 20230; telephone: (202) 482-1766 or (202) 482-3773, respectively.

SUPPLEMENTARY INFORMATION:

Background

On March 6, 2013, the Department published the Preliminary Determination finding that imports of tissue paper processed by A.R. Printing and Packaging India Pvt. Ltd. (ARPP) in India, and exported to the United States, are circumventing the AD order on tissue paper from the PRC,² as provided in section 781(b) of the Tariff Act of 1930, as amended (the Act). We invited interested parties to comment on the Preliminary Determination. On April 19 and 24, 2013, ARPP and the petitioner ³ submitted case and rebuttal briefs, respectively. The Department has conducted this anti-circumvention inquiry in accordance with section 781(b) of the Act and 19 CFR 351.225.

² See Notice of Amended Final Determination of Sales at Less than Fair Value and Antidumping Duty Order: Certain Tissue Paper Products from the People's Republic of China, 70 FR 16223 (March 30, 2005) (PRC Tissue Paper Order).

³ The petitioner is Seaman Paper Company of Massachusetts, Inc.

Scope of the Antidumping Duty Order

The tissue paper products subject to the order are cut-to-length sheets of tissue paper having a basis weight not exceeding 29 grams per square meter.⁴ The merchandise subject to this order does not have specific classification numbers assigned to them under the Harmonized Tariff Schedule of the United States. Subject merchandise may be under one or more of several different subheadings, including: 4802.30; 4802.54; 4802.61; 4802.62; 4802.69; 4804.31.1000; 4804.31.2000; 4804.31.4020; 4804.31.4040; 4804.31.6000; 4804.39; 4805.91.1090; 4805.91.5000; 4805.91.7000; 4806.40; 4808.30; 4808.90; 4811.90; 4823.90; 4820.50.00; 4802.90.00; 4805.91.90; 9505.90.40. The tariff classifications are provided for convenience and customs purposes; however, the written description of the scope of the order is dispositive.⁵

⁴ For a complete description of the scope of the PRC Tissue Paper Order, see memorandum entitled “Issues and Decision Memorandum for the Final Affirmative Determination of Circumvention of the Antidumping Duty Order on Certain Tissue Paper Products from the People's Republic of China (PRC) (Final Decision Memorandum),” dated concurrently with this notice.

⁵ See PRC Tissue Paper Order.

Scope of the Anti-circumvention Inquiry

The products covered by this inquiry are tissue paper products, as described above in the “Scope of the Antidumping Duty Order” section, which are produced in India from PRC-origin jumbo rolls and/or cut sheets of tissue paper, and exported from India to the United States. This inquiry only covers such PRC-origin products that are processed in India by ARPP and exported to the United States.

Analysis of Comments Received

All issues raised in the case briefs by parties in this circumvention inquiry are listed in the Appendix to this notice and addressed in the Issues and Decision Memorandum, which is hereby adopted by this notice. The Issues and Decision Memorandum can be accessed directly on the internet at http://www.trade.gov/ia/ and is on file electronically via Import Administration's Antidumping and Countervailing Duty Centralized Electronic Service System (IA ACCESS). IA ACCESS is available to registered users at http://iaaccess.trade.gov and in the Central Records Unit, Room 7046 of the main Department of Commerce building. The signed Issues and Decision Memorandum and the electronic version of the Issues and Decision Memorandum are identical in content.

Final Determination

In the Preliminary Determination, the Department found that imports of tissue paper processed by ARPP in India, and exported to the United States, are circumventing the PRC Tissue Paper Order pursuant to section 781(b) of the Act. Our final determination remains unchanged from our Preliminary Determination. As detailed in the Issues and Decision Memorandum, we determine that tissue paper processed by ARPP in India from PRC-origin jumbo rolls and/or cut sheets of tissue paper and exported to the United States circumvented the PRC Tissue Paper Order. We therefore determine that it is appropriate to include this merchandise within the scope of the PRC Tissue Paper Order and to continue to instruct U.S. Customs and Border Protection (CBP) to suspend entries of tissue paper products produced by ARPP from PRC-origin tissue paper.

Continuation of Suspension of Liquidation

In accordance with section 781(b) of the Act and 19 CFR 351.225(l)(3), the Department will continue to direct CBP to suspend liquidation and to require a cash deposit of estimated duties, at the rate applicable to the exporter, on all unliquidated entries of tissue paper produced by ARPP from PRC-origin tissue paper (jumbo rolls and/or cut sheets) that were entered, or withdrawn from warehouse, for consumption on or after May 3, 2012, the date of initiation of the anti-circumvention inquiry.⁶

⁶ See Certain Tissue Paper Products from the People's Republic of China: Notice of Initiation of Anti-circumvention Inquiry, 77 FR 27430 (May 10, 2012).

Notice to Parties

This notice serves as the only reminder to parties subject to the administrative protective order (APO) of their responsibility concerning the return or destruction of proprietary information disclosed under APO in accordance with 19 CFR 351.305. Timely written notification of the return or destruction of APO materials or conversion to judicial protective order is hereby requested. Failure to comply with the regulations and terms of an APO is a violation which is subject to sanction.

This final affirmative circumvention determination is published in accordance with section 781(b) of the Act and 19 CFR 351.225.

Dated: June 27, 2013.
Paul Piquado,
Assistant Secretary for Import Administration.

Appendix I

Discussion of the Issues

Comment 1: Whether the Department's Preliminary Affirmative Finding is Appropriate

Comment 2: Whether the Remedy Articulated in the Department's Preliminary Affirmative Finding is Appropriate

[FR Doc. 2013-16028 Filed 7-2-13; 8:45 am]

BILLING CODE 3510-DS-P